DEPARTMENT OF HOMELAND SECURITY

Coast Guard

33 CFR Part 114, 116, 118

[Docket No. USCG-2008-1188]

RIN 1625-AB36

General Bridge Regulation; Amendment

AGENCY: Coast Guard, DHS.

ACTION: Proposed rule; withdrawal.

SUMMARY: The Coast Guard is withdrawing its rulemaking concerning amendments to the general bridge regulations. The rulemaking was initiated to clarify the statutory responsibilities of bridge owners to remove their bridges from navigable waterways when they are no longer being used for land transportation functions. The Coast Guard will initiate a new rulemaking on this matter when an appropriate methodology, which might include an investigation and meetings, to be used in determining whether an unused bridge is an unreasonable obstruction to navigation is developed.

DATES: The proposed rule is withdrawn on March 22, 2012.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2008-1188 in the “Keyword” box, and then clicking “Search.”

FOR FURTHER INFORMATION CONTACT: If you have questions about this notice, call or email Mr. Chris Jaufmann, Bridge Program, U.S. Coast Guard, telephone 202-372-1511, email Josef.C.Jaufmann@uscg.mil. If you have questions on viewing material in the docket, call Renee V. Wright, Program Manager, Docket Operations, telephone 202-366-9826.

SUPPLEMENTARY INFORMATION:

Background

There were no documents published in the Federal Register for this rulemaking, but this rulemaking was announced in the Unified Agenda of Regulatory and Deregulatory Actions beginning in fall agenda 2009. The Coast Guard does not currently have regulations describing the processes of requiring alteration or removal of unused bridges. This rulemaking would have proposed making amendments to the general bridge regulations to articulate the responsibility of the bridge owner to alter or remove unused bridges, and to describe the Coast Guard processes to require alteration or removal of those bridges.

Withdrawal

The Coast Guard is withdrawing this rulemaking in order to ascertain the appropriate due process, which might include an investigation and meetings, to be used in determining whether an unused bridge is an unreasonable obstruction to navigation. The Coast Guard will initiate a new rulemaking when an appropriate methodology is developed.

Authority

We issue this notice of withdrawal under the authority of 33 U.S.C. 494, 502, 525; Department of Homeland Security Delegation No. 0170.1.

Dated: March 9, 2012.
Dana A. Goward,
Director, Maritime Transportation Systems, United States Coast Guard.

[FR Doc. 2012-6861 Filed 3-21-12; 8:45 am]

BILLING CODE 9110-04-P